DEPARTMENT OF TRANSPORTATION

Federal Aviation Administration

14 CFR Part 71

[Docket No. FAA-2022-0317; Airspace Docket No. 21-AAL-63]

RIN 2120-AA66

Proposed Modification of Class D and E Airspace, and Proposed Removal of Class E Airspace; King Salmon Airport, AK

AGENCY: Federal Aviation Administration (FAA), DOT.

ACTION: Notice of proposed rulemaking (NPRM).

SUMMARY: This action proposes to modify the Class D and Class E surface area airspace, and the Class E airspace extending upward from 700 feet above the surface at King Salmon Airport, King Salmon, AK. Additionally, the FAA proposes to remove the Class E airspace designated as an extension to Class D or Class E airspace, as it is no longer required. Furthermore, this action proposes to remove a navigational aid (NAVAID) from the legal description of the Class E5 text header. Lastly, this action proposes administrative updates to the Class D and Class E legal descriptions. These actions will ensure the safety and management of instrument flight rules (IFR) and visual flight rules (VFR) operations at the airport.

DATES: Comments must be received on or before May 23, 2022.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2022-0317; Airspace Docket No. 21-AAL-63, at the beginning of your comments. You may also submit comments through the internet at https://www.regulations.gov.

FAA Order JO 7400.11F, Airspace Designations and Reporting Points, and subsequent amendments can be viewed online at https://www.faa.gov/air_traffic/publications. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify Class D and Class E airspace at King Salmon Airport, AK, to support IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2022-0317; Airspace Docket No. 21-AAL-63”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by modifying the Class D and Class E surface airspace, modifying the Class E airspace extending upward from 700 feet above the surface, and removing the Class E4 airspace designated as a Class D or Class E2 surface area extension at King Salmon Airport, King Salmon, AK.

Both the Class D and Class E surface areas require an increase in radius to properly contain departures until reaching 700 feet above the surface, contain IFR arrivals descending below 1,000 feet above the surface, and to contain circling maneuvers at the airport. In addition, an extension to the Class D and Class E surface areas is needed to the southeast of the airport due to rising terrain. This proposed extension would contain IFR departures until reaching 700 feet above the surface.

In addition, the FAA proposes a shelf be added to the Class D and Class E surface areas. The shelf will allow for floatplane operations to and from the Naknek River when weather is below VFR minimums at the airport.

The King Salmon Class E4 airspace, designated as an extension to Class D and Class E surface areas, is no longer needed and the FAA proposes to remove the airspace.

The FAA proposes to modify the Class E airspace extending upward from 700 feet at King Salmon Airport. The current radius, which contains departing aircraft until reaching 1,200 feet above ground level (AGL), should be reduced, as the extra coverage is not needed. The areas to the southeast and northwest of the airport should be reduced to more appropriately contain the points at which an arriving aircraft would normally descend below 1,500 AGL.

The FAA proposes to increase the ceiling of the airspace to 2,600 feet mean sea level (MSL) to account for the 73 foot airport elevation. Class D areas should normally extend upward from the surface up to and including 2,500 feet AGL. The altitude must be converted to MSL and rounded to the nearest 100 feet.

Furthermore, this action also proposes to remove the King Salmon VORTAC from the Class E5 text header and the airspace description. The NAVAID is not required to describe the airspace area, and the removal of the NAVAID simplifies the airspace's legal description.

Finally, the FAA proposes several administrative modifications to the King Salmon Airport legal descriptions. The City name should be removed from the second line of the Class D, Class E2, and Class E5 airspace legal descriptions. The second line should read: “King Salmon Airport, AK.” Additionally, the current Class D and Class E surface area legal descriptions require modification to replace the use of the phrases “Notice to Airmen” and “Airport/Facility Directive.” These phrases should read “Notice to Air Missions” and “Chart Supplement,” respectively, in both legal descriptions.

Class D, Class E2, Class E4 and Class E5 airspace designations are published in paragraphs 5000, 6002, 6004, and 6005, respectively, of FAA Order JO 7400.11F, dated August 10, 2021, and effective September 15, 2021, which is incorporated by reference in 14 CFR 71.1. The Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

AAL AK D King Salmon, AK [Amended]

King Salmon Airport, AK

(Lat. 58°40′35″ N, long. 156°38′55″ W)

That airspace extending upward from the surface to and including 2,600 feet MSL within a 5.3-mile radius of the King Salmon Airport, AK, and within 1.1 miles each side of the 132° bearing extending from the 5.3-mile radius to 6.2 miles southeast of the airport, excluding that airspace 600 feet MSL and below within 1.5 miles each side of the 132° bearing extending from the 4.4-mile radius to the 5.3-mile radius of the airport, and excluding that airspace 600 feet MSL and below within 1.1 miles each side of the 132° bearing extending from the 5.3-mile radius to 6.2 miles southeast of the airport. This Class D airspace area is effective during the specific dates and times established in advance by a Notice to Air Missions. The effective date and time will thereafter be continuously published in the Chart Supplement.

Paragraph 6002 Class E Airspace Designated as Surface Areas.

* * * * *

AAL AK E2 King Salmon, AK [Amended]

King Salmon Airport, AK

(Lat. 58°40′35″ N, long. 156°38′55″ W)

That airspace extending upward from the surface within a 5.3-mile radius of the King Salmon Airport, AK, and within 1.1 miles each side of the 132° bearing extending from the 5.3-mile radius to 6.2 miles southeast of the airport, and excluding that airspace 600 feet MSL and below within 1.5 miles each side of the 132° bearing extending from the 4.4-mile radius to the 5.3-mile radius of the airport, and excluding that airspace 600 feet MSL and below within 1.1 miles each side of the 132° bearing extending from the 5.3-mile radius to 6.2 miles southeast of the airport. This Class E airspace area is effective during the specific dates and times established in advance by a Notice to Air Missions. The effective date and time will thereafter be continuously published in the Chart Supplement.

Paragraph 6004 Class E Airspace Areas Designated as an Extension to a Class D or Class E Surface Area.

* * * * *

AAL AK E4 King Salmon, AK [Removed]

King Salmon Airport, AK

(Lat. 58°40′35″ N, long. 156°38′55″ W)

Paragraph 6005 Class E Airspace Areas Extending Upward From 700 Feet or More Above the Surface of the Earth.

* * * * *

AAL AK E5 King Salmon, AK [Amended]

King Salmon Airport, AK

(Lat. 58°40′35″ N, long. 156°38′55″ W)

That airspace extending upward from 700 feet above the surface within a 6.8-mile radius of King Salmon Airport, AK, and within 3.3 miles northeast and 3.2 miles southwest of the 132° bearing extending from the 6.8-mile radius to 9.1 miles southeast of the airport, and within 3.9 miles each side of the 312° bearing extending from the 6.8-mile radius to 13.8 miles northwest of the airport; and that airspace extending upward from 1,200 feet above the surface within a 73-mile radius of the King Salmon Airport, AK, excluding that airspace extending beyond 12 miles of the shoreline.

Issued in Des Moines, Washington, on April 4, 2022.
B.G. Chew,
Acting Group Manager, Operations Support Group, Western Service Center.

[FR Doc. 2022-07481 Filed 4-7-22; 8:45 am]

BILLING CODE 4910-13-P